DEPARTMENT OF DEFENSE

Department of the Army

Notice of Availability for the Record of Decision (ROD) for Implementation of Fort Carson Grow the Army (GTA) Stationing Decisions

AGENCY: Department of the Army, DoD.

ACTION: Notice of Availability (NOA).

SUMMARY: The Executive Director of the Army's Installation Management Command has reviewed the Final Environmental Impact Statement (EElS) for Implementation of Fort Carson Grow the Army Stationing Decisions and has made the decision to proceed with all facets of the Proposed Action, with the exception that the Army has decided not to station a Combat Aviation Brigade (CAB) at Fort Carson at this time. Implementation of the Proposed Action involves the stationing of approximately 3,900 additional Soldiers at Fort Carson, the construction of new Infantry Brigade Combat Team (IBCT) facilities at the Operational Readiness Training Center site, demolition of old facilities and construction of new facilities in Fort Carson's cantonment area, and additional training at Fort Carson and the Pinon Canyon Maneuver Site (PCMS). This alternative is summarized in the Army's ROD and described fully in Chapter 2 of the FEIS.

ADDRESSES: For specific questions, please contact: Fort Carson National Environmental Policy Act Coordinator, 1638 Elwell Street, Bldg 6236, Fort Carson, CO 80913-4000 or e-mail CARSDECAMNEPAconus.army.mil.

FOR FURTHER INFORMATION CONTACT: Ms. Dee McNutt, Fort Carson Public Affairs Office at (719) 526-1269, during normal business hours.

SUPPLEMENTARY INFORMATION: The EElS assessed the potential environmental consequences of three alternatives for implementing GTA at Fort Carson and PCMS. All alternatives included constructing new facilities at Fort Carson to support an IBCT and other combat support units, the potential stationing of a CAB, upgrading ranges at Fort Carson, and increased use of live fire training ranges and maneuver areas at Fort Carson and PCMS. The Proposed Action and alternatives do not include the expansion of PCMS or any construction at PCMS. The ROD incorporates analyses contained in the FEIS, including comments provided during formal comment and review periods. The ROD evaluates the ability of each alternative to meet the Purpose and Need for the Proposed Action and outlines mitigation commitments. The Proposed Action was selected as it is best able to meet the Army's needs while sustaining the environment. A fuller rationale for the decision can be found in the ROD which is available for public review at http://www.aec.army.mil.

Dated: March 27, 2009.
Addison D. Davis, IV,
Deputy Assistant Secretary of the Army, Environment, Safety and Occupational Health.

[FR Doc. E9-7506 Filed 4-7-09; 8:45 am]

BILLING CODE 3710-08-M